DEPARTMENT OF DEFENSE

Office of the Secretary

Defense Science Board

AGENCY: Department of Defense.

ACTION: Notice of advisory committee meeting.

SUMMARY: The Defense Science Board Task Force on Contributions of Space Based Radar to Missile Defense will meet in closed session on April 19, 2004, at the Institute for Defense Analyses, 1801 N. Beauregard Street, Alexandria, VA. This Task Force will assess potential contributions of Space Based Radar (SBR) to missile defense.

The mission of the Defense Science Board is to advise the Secretary of Defense and the Under Secretary of Defense for Acquisition, Technology & Logistics on scientific and technical matters as they affect the perceived needs of the Department of Defense. This Task Force will: Assess the impact of adding a missile defense mission on the ability of SBR satellites to conduct their primary missions; assess how different SBR architectures and technical approaches might affect the ability of the satellites to achieve their primary missions and to contribute to missile defense; assess the value of potential SBR capabilities in the context of the family of sensors being developed by the Missile Defense Agency; and recommend any future actions that might be desirable related to SBR contributions to missile defense.

In accordance with section 10(d) of the Federal Advisory Committee Act, Pub. L. 92-463, as amended (5 U.S.C. App. II), it has been determined that this Defense Science Board Task Force meeting concerns matters listed in 5 U.S.C. 552b(c)(1) and that, accordingly, the meeting will be closed to the public.

L.M. Bynum,
Alternate OSD Federal Register Liaison Officer, Department of Defense.

[FR Doc. 04-7665 Filed 4-5-04; 8:45 am]

BILLING CODE 5001-06-M